DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were removed from Gig Harbor, Pierce County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Slater Museum of Natural History, University of Puget Sound professional staff with help from a consultant in consultation with representatives of the Muckleshoot Indian Tribe of the Muckleshoot Reservation, Washington; Nisqually Indian Tribe of the Nisqually Reservation, Washington; Puyallup Tribe of the Puyallup Reservation, Washington; Squaxin Island Tribe of the Squaxin Indian Reservation, Washington; and Suquamish Indian Tribe of the Port Madison Reservation, Washington.

At an unknown date, human remains representing a minimum of one individual were removed from the vicinity of Gig Harbor, Pierce County, WA, probably by Frank D'Andrea. Mr. D'Andrea's name is on a piece of cardboard that accompanies the human remains. There was no additional documentation with this set of human remains in the museum records. No known individual was identified. No associated funerary objects are present.

At an unknown date, human remains representing a minimum of one individual were removed from the vicinity of Gig Harbor, Pierce County, WA, by Howard Richardson. Mr. Richardson donated the human remains to the museum in 1935. No known individual was identified. No associated funerary objects are present.

At an unknown date, human remains representing a minimum of one individual were removed from the vicinity of Gig Harbor, Pierce County, WA. The human remains were donated to the museum in 1939. No known individual was identified. No associated funerary objects are present.

The catalog and information with the human remains indicate that the three individuals were found in the vicinity of Gig Harbor. The individuals are most likely of Native American ancestry as indicated by morphological features. The geographical location where the human remains were recovered is consistent with the historically documented territory of the Puyallup Tribe of the Puyallup Reservation, Washington. Officials of the Slater Museum of Natural History, University of Puget Sound, reasonably believe based on provenience, museum and donor records, historical documentation, and tribal consultation that the human remains share a common ancestry with members of tribes now represented by the Puyallup Tribe of the Puyallup Reservation, Washington.

Officials of the Slater Museum of Natural History, University of Puget Sound have determined that, pursuant to 25 U.S.C. 3001 (9-10), the human remains described above represent the physical remains of three individuals of Native American ancestry. Officials of the Slater Museum of Natural History, University of Puget Sound also have determined that, pursuant to 25 U.S.C. 3001 (2), there is a relationship of shared group identity that can be reasonably traced between the Native American human remains and the Puyallup Tribe of the Puyallup Reservation, Washington.

Representatives of any other Indian tribe that believes itself to be culturally affiliated with the human remains should contact Alyce DeMarais, Associate Dean, University of Puget Sound, 1500 N. Warner, Tacoma, WA 98416, (253) 879-3207, before July 5, 2007. Repatriation of the human remains to the Puyallup Tribe of the Puyallup Reservation, Washington may proceed after that date if no additional claimants come forward.

The Slater Museum of Natural History, University of Puget Sound is responsible for notifying the Muckleshoot Indian Tribe of the Muckleshoot Reservation, Washington; Nisqually Indian Tribe of the Nisqually Reservation, Washington; Puyallup Tribe of the Puyallup Reservation, Washington; Squaxin Island Tribe of the Squaxin Indian Reservation, Washington; and Suquamish Indian Tribe of the Port Madison Reservation, Washington that this notice has been published.

Dated: May 9, 2007
Sherry Hutt,
Manager, National NAGPRA Program.

[FR Doc. E7-10731 Filed 6-1-07; 8:45 am]

BILLING CODE 4312-50-S